DEPARTMENT OF LABOR

Office of the Secretary

Submission for OMB Review, Comment Request

August 1, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or E-mail Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

* evaluate whether the proposed collection of information is necessary for the proper performance of the functions of the agency, including whether the information will have practical utility;

* evaluate the accuracy of the agency's estimate of the burden of the proposed collection of information, including the validity of the methodology and assumptions used;

* enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Housing Terms and Conditions.

OMB Number: 1215-0146.

Affected Public: Farms; individuals or households; and business or other for-profit.

Frequency: On occasion.

Number of Respondents: 1,300.

Number of Annual Responses: 1,300.

Estimated Time Per Response: 30 minutes.

Total Burden Hours: 650.

Total Annualized Capital/Startup Costs: $0.

Total Annual Costs (operating/maintaining systems or purchasing services): $0.

Description: Section 201(c) of the Migrant and Seasonal Agricultural Worker Protection Act (MSPA), 29 USC 1801 et seq., requires that any farm labor contractor, agricultural employer or agricultural association that provides housing to any migrant agricultural worker post in a conspicuous place or present to such worker a statement of the terms and conditions, if any, of occupancy of such housing. In addition, Section 201(g) of MSPA requires that such information be provided in English, or as necessary and reasonable, in a language common to the workers and that the Department of Labor make forms available to provide such information. Section 500.75(f) and (g) of Regulations, 29 CFR part 500, of MSPA, sets forth the terms of occupancy of housing which are to be posted or given in a written statement to the worker. Section 500.1(i)(2) provides for optional Form WH-521, which may be used to satisfy sections 201(c) and 201(g) of MSPA. While use of the form is optional, disclosure of the information is required by MSPA. Less frequent disclosure would prevent the Department of Labor from determining compliance with this requirement of MSPA.

Ira L. Mills,
Department Clearance Officer.

[FR Doc. 02-20608 Filed 8-13-02; 8:45 am]

BILLING CODE 4510-27-M